LEGAL SERVICES CORPORATION

Sunshine Act Meetings

Time and Date: The Search Committee for LSC Inspector General (Search Committee) of the Legal Services Corporation Board of Directors will meet in-person on Sunday, March 26, 2023. The meeting will commence at 11:45 a.m. ET and will continue until the conclusion of the Committee's agenda.

Place: Legal Services Corporation, 3333 K Street NW, Washington, DC 20007.

Status: Closed.

Matters To Be Considered:

Closed Session

1. Approval of Agenda

2. Discuss the Merits of Candidates who have been Interviewed

3. Consider and Act on a Recommendation to LSC's Board on a Candidate to Hire

4. Consider and Act on Motion to Adjourn the Meeting

Contact Person for More Information: Cheryl DuHart, Administrative Coordinator, Office of Legal Affairs, at (202) 295-1621. Questions may also be sent by electronic mail to duhartc@lsc.gov.

Authority: 5 U.S.C. 552b.

Dated: March 17, 2023.
Stefanie Davis,
Senior Associate General Counsel for Regulations, Legal Services Corporation.

[FR Doc. 2023-05848 Filed 3-17-23; 11:15 am]

BILLING CODE 7050-01-P